COMMISSION ON CIVIL RIGHTS

Sunshine Act Meeting Notice

AGENCY: United States Commission on Civil Rights.

ACTION: Briefing notice.

DATES: Date and Time: Friday, January 30, 2015; 9 a.m.-4 p.m. EST.

ADDRESSES: Place: 1331 Pennsylvania Ave NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION: This briefing is open to the public.

Topic: The State of Civil Rights at Immigration Detention Facilities

I. Introductory Remarks by Chairman Castro

II. Issue Panel I—9:05 a.m.-10:35 a.m.: Federal Agency Guidelines and Standards of Care

Speakers' Remarks and Questions from Commissioners

III. Issue Panel II—10:35 a.m.-12 p.m.: Private Detention Facilities & Standards of Care

Speakers' Remarks and Questions from Commissioners

IV. LUNCH — 12 p.m.-1 p.m.

V. Issue Panel III—1 p.m.-2:30 p.m.: Legal Challenges Associated with Immigration Detention Facilities

Speakers' Remarks and Questions from Commissioners

VI. Issue Panel IV—2:30 p.m.-4 p.m.: Civil Rights Concerns Associated with Immigration Detention Facilities

Speakers' Remarks and Questions from Commissioners

VII. Adjourn Briefing

Dated: January 22, 2015.
David Mussatt,
Chief, Regional Programs Unit.

[FR Doc. 2015-01385 Filed 1-22-15; 11:15 am]

BILLING CODE 6335-01-P